DEPARTMENT OF COMMERCE

Bureau of Industry and Security

15 CFR Part 744

[Docket No. 170804727-7727-01]

RIN 0694-AH43

Addition of Certain Entities; Removal of Certain Entities; and Revisions of Entries on the Entity List

AGENCY: Bureau of Industry and Security, Commerce.

ACTION: Final rule.

SUMMARY: This rule amends the Export Administration Regulations (EAR) by adding twenty-one persons under twenty-three entries to the Entity List. The twenty-one persons who are added to the Entity List have been determined by the U.S. Government to be acting contrary to the national security or foreign policy interests of the United States. These twenty-one persons will be listed on the Entity List under the destinations of Bulgaria, China, Kazakhstan, Russia, Syria, and the United Arab Emirates (U.A.E.). In addition, this rule amends the EAR by removing three entities from the Entity List. This rule removes one entity listed under the destination of Taiwan and two entities listed under the destination of the U.A.E. from the Entity List. All three of the removals are the results of requests for removal received by BIS pursuant to the section of the EAR used for requesting removal or modification of an Entity List entry and a review of information provided in the removal requests. Finally, this final rule modifies two existing entries on the Entity List. This rule modifies one entry under China and one entry under Pakistan to provide additional or modified addresses and/or names for these persons.

DATES: This rule is effective January 26, 2018.

FOR FURTHER INFORMATION CONTACT: Chair, End-User Review Committee, Office of the Assistant Secretary, Export Administration, Bureau of Industry and Security, Department of Commerce, Phone: (202) 482-5991, Email: ERC@bis.doc.gov.

SUPPLEMENTARY INFORMATION:

Background

The Entity List (supplement No. 4 to part 744) identifies entities and other persons reasonably believed to be involved, or to pose a significant risk of being or becoming involved, in activities contrary to the national security or foreign policy interests of the United States. The EAR imposes additional license requirements on, and limits the availability of most license exceptions for, exports, reexports, and transfers (in-country) to those listed. The “license review policy” for each listed entity or other person is identified in the License Review Policy column on the Entity List and the impact on the availability of license exceptions is described in the Federal Register document adding entities or other persons to the Entity List. BIS places entities and other persons on the Entity List pursuant to sections of part 744 (Control Policy: End-User and End-Use Based) and part 746 (Embargoes and Other Special Controls) of the EAR.

The End-User Review Committee (ERC), composed of representatives of the Departments of Commerce (Chair), State, Defense, Energy and, where appropriate, the Treasury, makes all decisions regarding additions to, removals from, or other modifications to the Entity List. The ERC makes all decisions to add an entry to the Entity List by majority vote and all decisions to remove or modify an entry by unanimous vote.

ERC Entity List Decisions

Additions to the Entity List

This rule implements the decision of the ERC to add twenty-one persons under twenty-three entries to the Entity List. These twenty-one persons are being added on the basis of § 744.11 (License requirements that apply to entities acting contrary to the national security or foreign policy interests of the United States) of the EAR. The twenty-three entries added to the Entity List consist of four entities located in Bulgaria, one entity located in China, two entities located in Kazakhstan, two entities located in Russia, two entities located in Syria, and twelve entities located in the U.A.E. There are twenty-three entries for the twenty-one persons because two of the persons are listed in multiple locations, resulting in two additional entries.

The ERC reviewed § 744.11(b) (Criteria for revising the Entity List) in making the determination to add these twenty-one persons under twenty-three entries to the Entity List. Under that paragraph, persons for whom there is reasonable cause to believe, based on specific and articulable facts, that they have been involved, are involved, or pose a significant risk of being or becoming involved in, activities that are contrary to the national security or foreign policy interests of the United States and those acting on behalf of such persons may be added to the Entity List. Paragraphs (b)(1) through (5) of § 744.11 provide an illustrative list of activities that could be contrary to the national security or foreign policy interests of the United States.

The ERC determined that eleven entities, Advanced Aerospace Industries, Deira General Marketing, DGL Clearing and Forwarding LLC, Emitech Middle East FZC, Eurotech DMCC, Foremost International FZE, Jazirah Aviation Club, Modest Marketing LLC, Pearltrainer FZE, Sky Gulf Consultancy and Researches LLC, and Stealth Telecom FZC, all located in the U.A.E., be added to the Entity List for actions contrary to the national security or foreign policy interests of the United States. The ERC determined that there is reasonable cause to believe, based on specific and articulable facts, that these entities have been involved in the procurement of items for an entity on the Entity List, in circumvention of the licensing requirements set forth in § 744.11 of the EAR.

The ERC determined that one entity, Chengdu Spaceon Technology Co. Ltd., located in China, be added to the Entity List for actions contrary to the national security or foreign policy interests of the United States. The ERC determined that there is reasonable cause to believe, based on specific and articulable facts, that this entity has been involved in transshipping items to a person on the Entity List in China for an unauthorized military end-use.

The ERC determined that seven entities, Adib Zeno, Ammar Almounajed, Iskren Georgiev, Lyubka Hristova, Mihaela Nenova, Rizk Ali, and Zhelyaz Andreev, located in the destinations of Bulgaria, Syria and the U.A.E., be added to the Entity List for actions contrary to the national security or foreign policy interests of the United States. The ERC determined that there is reasonable cause to believe, based on specific and articulable facts, that these entities unlawfully conspired to procure and divert controlled aircraft parts to Syrian Arab Airlines, an entity on the Department of the Treasury's Office of Foreign Assets Control's (OFAC) Specially-Designated Nationals list (SDN).

The ERC determined that two entities, Abtronics and Timofey Telegin, located in the destinations of Russia and Kazakhstan, be added to the Entity List on the basis of their procurement of U.S.-origin items for activities contrary to the national security or foreign policy interests of the United States. Specifically, these entities procured U.S.-origin items and transferred them to entities of the Russian military and parties on the Entity List without the necessary licenses.

Pursuant to § 744.11(b) of the EAR, the ERC determined that the conduct of these twenty-one persons raises sufficient concern that prior review of exports, reexports or transfers (in-country) of all items subject to the EAR involving these persons, and the possible imposition of license conditions or license denials on shipments to the persons, will enhance BIS's ability to prevent violations of the EAR.

For the twenty-one persons added to the Entity List, BIS imposes a license requirement for all items subject to the EAR, and a license review policy of presumption of denial. The license requirements apply to any transaction in which items are to be exported, reexported, or transferred (in-country) to any of the persons or in which such persons act as purchaser, intermediate consignee, ultimate consignee, or end-user. In addition, no license exceptions are available for exports, reexports, or transfers (in-country) to the persons being added to the Entity List in this rule. The acronym “a.k.a.” (also known as) is used in entries on the Entity List to identify aliases and help exporters, reexporters and transferors to better identify persons on the Entity List.

This final rule adds the following twenty-one persons under twenty-three entries to the Entity List:

Bulgaria

(1) Iskren Georgiev, 51 Aleksandar Malinov Blvd., Sofia 1712, Bulgaria;

(2) Lyubka Hristova, 51 Aleksandar Malinov Blvd., Sofia 1712, Bulgaria;

(3) Mihaela Nenova, a.k.a., the following one alias:

—Mihaela Nenova-Muhy. 51 Aleksandar Malinov Blvd., Sofia 1712, Bulgaria; and

(4) Zhelyaz Andreev, 51 Aleksandar Malinov Blvd., Sofia 1712, Bulgaria.

China

(1) Chengdu Spaceon Technology Co., Ltd., a.k.a., the following one alias:

—Tianao Electronics Co., Ltd., No. 88 Xinye Road, West High Tech Zone, Chengdu, China; and Spaceon Building, No. 1 Wulidun Road, Chadianzi, Chengdu, China; and Tianao Building, No. 1 Wulidun Road, Chadianzi, Chengdu, China.

Kazakhstan

(1) Abtronics, 21 Solodovnikova Street, Almaty 50046, Kazakhstan (See alternate address under Russia); and

(2) Timofey Telegin, 21 Solodovnikova Street, Almaty 50046, Kazakhstan (See alternate address under Russia).

Russia

(1) Abtronics, 18, bld. 2, Frontovyh Brigad Street, Yekaterinburg 620017, Russia; and 15 A Kulakova Prospect, Office 307, Stavropol 355044, Russia; and 12/11 Bld 12, 1-st Bukhvostova Street, Moscow 107076, Russia (See alternate address under Kazakhstan); and

(2) Timofey Telegin, 18, bld. 2, Frontovyh Brigad Street, Yekaterinburg 620017, Russia; and 15 A Kulakova Prospect, Office 307, Stavropol 355044, Russia; and 12/11 Bld 12, 1-st Bukhvostova Street, Moscow 107076, Russia (See alternate address under Kazakhstan).

Syria

(1) Adib Zeno, Damascus International Airport, Damascus Airport Motorway, Damascus, Syria; and

(2) Rizk Ali, Damascus International Airport, Damascus Airport Motorway, Damascus, Syria.

United Arab Emirates

(1) Advanced Aerospace Industries, Industrial City of Abu Dhabi, Abu Dhabi, U.A.E.;

(2) Ammar Almounajed, a.k.a., the following one alias:

—Ammar al-Mounjad. Warehouse No. 1017, Old Agent Bldg., Dubai Air Cargo Village, Dubai, U.A.E.;

(3) Deira General Marketing, P.O. Box 26412, Abu Dhabi, U.A.E.;

(4) DGL Clearing and Forwarding LLC, P.O. Box 94353, Abu Dhabi, U.A.E.;

(5) Emitech Middle East FZC, P.O. Box 513364, SAIF Zone, Sharjah, U.A.E.;

(6) Eurotech DMCC, Office No. 3404, HDS Tower, Sheikh Zayed Road, Dubai, U.A.E.; and P.O. Box 643650, Jumeirah Lakes Towers, Dubai U.A.E.;

(7) Foremost International FZE, P.O. Box 123833, Q4-163, SAIF Zone, Sharjah, U.A.E.;

(8) Jazirah Aviation Club, Al Jazirah, Al Hamra, Ras al Khaimah, U.A.E.;

(9) Modest Marketing LLC, P.O. Box 51436, Dubai, U.A.E.;

(10) Pearltrainer FZE, P.O. Box 32707, Sharjah, U.A.E.;

(11) Sky Gulf Consultancy and Researches LLC, P.O. Box 25298, Abu Dhabi, U.A.E.; and

(12) Stealth Telecom FZC, P.O. Box 7755, Sharjah, U.A.E.

Removals From the Entity List

This rule implements a decision of the ERC to remove the following three entities from the Entity List on the basis of removal requests received by BIS, as follows: Hosoda Taiwan Limited, located in Taiwan; and Euro Vision Technology LLC and Noun Nasreddine, both located in the U.A.E. The entry for Hosoda Taiwan Limited was added to the Entity List on April 23, 2015 (see 80 FR 22640). The entries for Euro Vision Technology LLC and Noun Nasreddine were added to the Entity List on February 23, 2016 (see 81 FR 8829).

The ERC decided to remove these three entities based on information received by BIS pursuant to § 744.16 of the EAR and further review conducted by the ERC.

This final rule implements the decision to remove the following one entity located in Taiwan, and two entities located in the U.A.E. from the Entity List:

Taiwan

(1) Hosoda Taiwan Limited, 3F-1 No. 52, SEC 2, Chung Shan N. Road, Taipei 104 Taiwan.

United Arab Emirates

(1) Euro Vision Techonology LLC, #701 Damas Tower, 702 Al Maktoum St, Dubai, U.A.E.; and 701 Attar Tower, Maktoum St, Dubai, U.A.E.; and City Tower, Al Maktoum St. Office No. 701, Dubai U.A.E.; and P.O. Box 40595, Dubai, U.A.E.; and Warehouse No. 8, Plot No. 238, Rashidiya, Dubai, U.A.E.; and

(2) Noun Nasreddine, a.k.a., the following one alias:

—N.A. Nasreddine. #701 Damas Tower, 702 Al Maktoum St, Dubai, U.A.E.; and 701 Attar Tower, Maktoum St, Dubai, U.A.E.; and City Tower, Al Maktoum St. Office No. 701, Dubai U.A.E.; and P.O. Box 40595, Dubai, U.A.E.; and Warehouse No. 8, Plot No. 238, Rashidiya, Dubai, U.A.E.

The removal of the entities referenced above, which was approved by the ERC, eliminates the existing license requirements in supplement No. 4 to part 744 for exports, reexports and transfers (in-country) to these entities. However, the removal of these entities from the Entity List does not relieve persons of other obligations under part 744 of the EAR or under other parts of the EAR. Neither the removal of an entity from the Entity List nor the removal of Entity List-based license requirements relieves persons of their obligations under General Prohibition 5 in § 736.2(b)(5) of the EAR which provides that, “you may not, without a license, knowingly export or reexport any item subject to the EAR to an end-user or end-use that is prohibited by part 744 of the EAR.” Additionally, this removal does not relieve persons of their obligation to apply for export, reexport or in-country transfer licenses required by other provisions of the EAR. BIS strongly urges the use of supplement No. 3 to part 732 of the EAR, “BIS's `Know Your Customer' Guidance and Red Flags,” when persons are involved in transactions that are subject to the EAR.

Modifications to the Entity List

This final rule implements decisions of the ERC to modify two existing entries on the Entity List. Under the destination of China, the ERC made a determination to revise one entry by removing one address and adding one additional address to the entry for Beijing Aeronautical Manufacturing Technology Research Institute. Under the destination of Pakistan, the ERC made a determination to revise one entry by adding an alias and two additional addresses to the entry for Advanced Engineering Research Organization (AERO).

This final rule makes the following modifications to two entries on the Entity List:

China

(1) Beijing Aeronautical Manufacturing Technology Research Institute, a.k.a., the following two aliases:

—BAMTRI; and

—Aviation Industry Corporation of China's (AVIC) Institute 625.

No. 1 East Military Village, North Baliqiao Station, Chaoyang District, Beijing, China; and

No. 1 Dongjunzhuang, Baliqiaobei, Chaoyang District, Beijing, China.

Pakistan

(1) Advanced Engineering Research Organization (AERO), a.k.a., the following one alias:

—Integrated Solutions. Lub Thatoo Hazara Road, The Taxila District, Rawalpindi, Pakistan; and 53/2 26th Street, near Badara Commercial Area Phase 5 Extension, DHA Karachi, Pakistan; and House No. 334, Street No. 102, Sector I-8/4, near Pakeeza Market, Islamabad, Pakistan.

Export Administration Act of 1979

Although the Export Administration Act of 1979 expired on August 20, 2001, the President, through Executive Order 13222 of August 17, 2001, 3 CFR, 2001 Comp., p. 783 (2002), as amended by Executive Order 13637 of March 8, 2013, 78 FR 16129 (March 13, 2013) and as extended by the Notice of August 15, 2017, 82 FR 39005 (August 16, 2017), has continued the Export Administration Regulations in effect under the International Emergency Economic Powers Act. BIS continues to carry out the provisions of the Export Administration Act of 1979, as appropriate and to the extent permitted by law, pursuant to Executive Order 13222, as amended by Executive Order 13637.

Rulemaking Requirements

1. Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has been determined to be not significant for purposes of Executive Order 12866. This rule is not an Executive Order 13771 regulatory action because this rule is not significant under Executive Order 12866.

2. Notwithstanding any other provision of law, no person is required to respond to nor be subject to a penalty for failure to comply with a collection of information, subject to the requirements of the Paperwork Reduction Act of 1995 (44 U.S.C. 3501 et seq.) (PRA), unless that collection of information displays a currently valid Office of Management and Budget (OMB) Control Number. This regulation involves collections previously approved by OMB under control number 0694-0088, Simplified Network Application Processing System, which includes, among other things, license applications, and carries a burden estimate of 43.8 minutes for a manual or electronic submission.

Total burden hours associated with the PRA and OMB control number 0694-0088 are not expected to increase as a result of this rule. You may send comments regarding the collection of information associated with this rule, including suggestions for reducing the burden, to Jasmeet K. Seehra, Office of Management and Budget (OMB), by email to Jasmeet_K._Seehra@omb.eop.gov, or by fax to (202) 395-7285.

3. This rule does not contain policies with Federalism implications as that term is defined in Executive Order 13132.

4. For the twenty-one persons under twenty-three entries added to the Entity List in this final rule, the provisions of the Administrative Procedure Act (5 U.S.C. 553) requiring notice of proposed rulemaking, the opportunity for public participation and a 30-day delay in effective date are inapplicable, because this regulation involves a military or foreign affairs function of the United States (5 U.S.C. 553(a)(1)). BIS implementation of this rule is necessary to protect U.S. national security or foreign policy interests by preventing items from being exported, reexported, or transferred (in-country) to the persons being added to the Entity List. If this rule were delayed to allow for notice and comment and a delay in effective date, the entities being added to the Entity List by this action would continue to be able to receive items without a license and to conduct activities contrary to the national security or foreign policy interests of the United States. In addition, publishing a proposed rule would give these parties notice of the U.S. Government's intention to place them on the Entity List, which could create an incentive for these persons to accelerate receiving items subject to the EAR to conduct activities that are contrary to the national security or foreign policy interests of the United States, including taking steps to set up additional aliases, change addresses, and other measures to try to limit the impact of the listing on the Entity List once a final rule is published. Further, no other law requires that a notice of proposed rulemaking and an opportunity for public comment be given for this rule.

5. For the three entities removed from the Entity List in this final rule, pursuant to the Administrative Procedure Act (APA), 5 U.S.C. 553(b)(3)(B), BIS finds good cause to waive requirements that this rule be subject to notice and the opportunity for public comment because it would be contrary to the public interest.

In determining whether to grant a request for removal from the Entity List, a committee of U.S. Government agencies (the End-User Review Committee (ERC)) evaluates information about and commitments made by listed entities or persons requesting removal from the Entity List, the nature and terms of which are set forth in 15 CFR part 744, supplement No. 5, as noted in 15 CFR 744.16(b). The information, commitments, and criteria for this extensive review were all established through the notice of proposed rulemaking and public comment process (72 FR 31005 (June 5, 2007) (proposed rule), and 73 FR 49311 (August 21, 2008) (final rule)). These three removals have been made within the established regulatory framework of the Entity List. If the rule were to be delayed to allow for public comment, U.S. exporters may face unnecessary economic losses as they turn away potential sales to the entities removed by this rule because the customer remained a listed person on the Entity List even after the ERC approved the removal pursuant to the rule published at 73 FR 49311 on August 21, 2008. By publishing without prior notice and comment, BIS allows the applicants to receive U.S. exports immediately because the applicants already have received approval by the ERC pursuant to 15 CFR part 744, supplement No. 5, as noted in 15 CFR 744.16(b).

Removals from the Entity List granted by the ERC involve interagency deliberation and result from review of public and non-public sources, including sensitive law enforcement information and classified information, and the measurement of such information against the Entity List removal criteria. This information is extensively reviewed according to the criteria for evaluating removal requests from the Entity List, as set out in 15 CFR part 744, supplement No. 5, and 15 CFR 744.16(b). For reasons of national security, BIS is not at liberty to provide to the public detailed information on which the ERC relied to make the decisions to remove these entities. In addition, the information included in the removal request is information exchanged between the applicant and the ERC, which by law (section 12(c) of the Export Administration Act of 1979), BIS is restricted from sharing with the public. Moreover, removal requests from the Entity List contain confidential business information, which is necessary for the extensive review conducted by the U.S. Government in assessing such removal requests.

Section 553(d) of the APA generally provides that rules may not take effect earlier than thirty (30) days after they are published in the Federal Register. BIS finds good cause to waive the 30-day delay in effectiveness under 5 U.S.C. 553(d)(1) because this rule is a substantive rule which relieves a restriction. This rule's removal of three entities under three entries from the Entity List removes requirements (the Entity-List-based license requirement and limitation on use of license exceptions) on these three entities being removed from the Entity List. The rule does not impose a requirement on any other person for these removals from the Entity List. Further, no other law requires that a notice of proposed rulemaking and an opportunity for public comment be given for this final rule.

6. The Department finds that there is good cause under 5 U.S.C. 553(b)(3)(B) to waive the provisions of the Administrative Procedure Act (APA) requiring prior notice and the opportunity for public comment for the two modifications included in this rule because, as described above, they are impracticable and are contrary to the public interest. In addition, these two changes are limited to providing additional or modified addresses and/or an alias for these entities on the Entity List, which will assist the public in more easily identifying these listed entities on the Entity List.

7. Because a notice of proposed rulemaking and an opportunity for public comment are not required to be given for this rule by 5 U.S.C. 553, or by any other law, the analytical requirements of the Regulatory Flexibility Act, 5 U.S.C. 601 et seq., are not applicable. Accordingly, no regulatory flexibility analysis is required and none has been prepared.

List of Subjects in 15 CFR Part 744

Exports, Reporting and recordkeeping requirements, Terrorism.

Accordingly, part 744 of the Export Administration Regulations (15 CFR parts 730-774) is amended as follows:

PART 744—[AMENDED]

1. The authority citation for 15 CFR part 744 continues to read as follows:

Authority: 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of January 13, 2017, 82 FR 6165 (January 18, 2017); Notice of August 15, 2017, 82 FR 39005 (August 16, 2017); Notice of September 18, 2017, 82 FR 43825 (September 19, 2017); Notice of November 6, 2017, 82 FR 51971 (November 8, 2017).

2. Supplement No. 4 to part 744 is amended:

a. By adding in alphabetical order, a heading for Bulgaria and four Bulgarian entities;

b. Under China:

i. By revising one Chinese entity; and

ii. By adding, in alphabetical order, one Chinese entity;

c. By adding, in alphabetical order, under Kazakhstan, two Kazakhstani entities;

d. By revising, under Pakistan, one Pakistani entity;

e. By adding, in alphabetical order, under Russia, two Russian entities;

f. By adding, in alphabetical order, under Syria, two Syrian entities;

g. By removing under Taiwan, one Taiwanese entity, “Hosoda Taiwan Limited, 3F-1 No. 52, SEC 2, Chung Shan N. Road, Taipei 104 Taiwan”; and

h. Under United Arab Emirates:

i. By removing two Emirati entities, “Euro Vision Technology LLC, #701 Damas Tower, 702 Al Maktoum St, Dubai, U.A.E.; and 701 Attar Tower, Maktoum St, Dubai, U.A.E.; and City Tower, Al Maktoum St. Office No. 701, Dubai U.A.E.; and P.O. Box 40595, Dubai, U.A.E.; and Warehouse No. 8, Plot No. 238, Rashidiya, Dubai, U.A.E.;” and “Noun Nasreddine, a.k.a., the following one alias: -N.A. Nasreddine. #701 Damas Tower, 702 Al Maktoum St, Dubai, U.A.E.; and 701 Attar Tower, Maktoum St, Dubai, U.A.E.; and City Tower, Al Maktoum St. Office No. 701, Dubai U.A.E.; and P.O. Box 40595, Dubai, U.A.E.; and Warehouse No. 8, Plot No. 238, Rashidiya, Dubai, U.A.E.”; and

ii. By adding, in alphabetical order, twelve Emirati entities.

The additions and revisions read as follows:

Supplement No. 4 to Part 744—Entity List

* * * * *

Country | Entity | License requirement | License review policy | Federal Register citation
| * * * * * * *
BULGARIA | Iskren Georgiev, 51 Aleksandar Malinov Blvd., Sofia 1712, Bulgaria. | For all items subject to the EAR (See § 744.11 of the EAR). | Presumption of denial | 83 FR [INSERT FR PAGE NUMBER], 1/26/18.
| Lyubka Hristova, 51 Aleksandar Malinov Blvd., Sofia 1712, Bulgaria. | For all items subject to the EAR (See § 744.11 of the EAR). | Presumption of denial | 83 FR [INSERT FR PAGE NUMBER], 1/26/18.
| Mihaela Nenova, a.k.a., the following one alias: Mihaela Nenova-Muhy, 51 Aleksandar Malinov Blvd., Sofia 1712, Bulgaria. | For all items subject to the EAR (See § 744.11 of the EAR). | Presumption of denial | 83 FR [INSERT FR PAGE NUMBER], 1/26/18.
| Zhelyaz Andreev, 51 Aleksandar Malinov Blvd., Sofia 1712, Bulgaria. | For all items subject to the EAR (See § 744.11 of the EAR). | Presumption of denial | 83 FR [INSERT FR PAGE NUMBER], 1/26/18.
| * * * * * * *
CHINA, PEOPLE'S REPUBLIC OF | * * * * * *
| Beijing Aeronautical Manufacturing Technology Research Institute, a.k.a., the following two aliases: —BAMTRI; and —Aviation Industry Corporation of China's (AVIC) Institute 625. No. 1 East Military Village, North Baliqiao Station, Chaoyang District, Beijing, China; and No. 1 Dongjunzhuang, Baliqiaobei, Chaoyang District, Beijing, China. | For all items subject to the EAR. (See § 744.11 of the EAR). | Presumption of approval for EAR99; case-by-case review for all items on the CCL | 79 FR 24566, 5/1/14. 83 FR [INSERT FR PAGE NUMBER], 1/26/18.
| * * * * * *
| Chengdu Spaceon Technology Co., Ltd., a.k.a., the following one alias: —Tianao Electronics Co., Ltd. No. 88 Xinye Road, West High Tech Zone, Chengdu, China; and Spaceon Building, No. 1 Wulidun Road, Chadianzi, Chengdu, China; and Tianao Building, No. 1 Wulidun Road, Chadianzi, Chengdu, China. | For all items subject to the EAR (See § 744.11 of the EAR). | Presumption of denial | 83 FR [INSERT FR PAGE NUMBER], 1/26/18.
| * * * * * *
* * * * * * *
KAZAKHSTAN | Abtronics, 21 Solodovnikova Street, Almaty 50046, Kazakhstan (See alternate address under Russia). | For all items subject to the EAR (See § 744.11 of the EAR). | Presumption of denial | 83 FR [INSERT FR PAGE NUMBER], 1/26/18.
| * * * * * *
| Timofey Telegin, 21 Solodovnikova Street, Almaty 50046, Kazakhstan (See alternate address under Russia) | For all items subject to the EAR (See § 744.11 of the EAR). | Presumption of denial | 83 FR [INSERT FR PAGE NUMBER], 1/26/18.
* * * * * * *
PAKISTAN | * * * * * *
| Advanced Engineering Research Organization (AERO), a.k.a., the following one alias: | For all items subject to the EAR (See § 744.11 of the EAR). | Presumption of denial | 79 FR 56003, 9/18/14. 83 FR [INSERT FR PAGE NUMBER], 1/26/18.
| —Integrated Solutions.
| Lub Thatoo Hazara Road, The Taxila District, Rawalpindi, Pakistan; and 53/2 26th Street, near Badara Commercial Area Phase 5 Extension, DHA Karachi, Pakistan; and House No. 334, Street No. 102, Sector I-8/4, near Pakeeza Market, Islamabad, Pakistan.
| * * * * * *
* * * * * * *
RUSSIA | * * * * * *
| Abtronics, 18, bld. 2, Frontovyh Brigad Street, Yekaterinburg 620017, Russia; and 15 A Kulakova Prospect, Office 307, Stavropol 355044, Russia; and 12/11 Bld 12, 1-st Bukhvostova Street, Moscow 107076, Russia (See alternate address under Kazakhstan) | For all items subject to the EAR (See § 744.11 of the EAR). | Presumption of denial | 83 FR [INSERT FR PAGE NUMBER], 1/26/18.
| * * * * * *
| Timofey Telegin, 18, bld. 2, Frontovyh Brigad Street, Yekaterinburg 620017, Russia; and 15 A Kulakova Prospect, Office 307, Stavropol 355044, Russia; and 12/11 Bld 12, 1-st Bukhvostova Street, Moscow 107076, Russia (See alternate address under Kazakhstan) | For all items subject to the EAR (See § 744.11 of the EAR). | Presumption of denial | 83 FR [INSERT FR PAGE NUMBER], 1/26/18.
| * * * * * *
* * * * * * *
SYRIA | Adib Zeno, Damascus International Airport, Damascus Airport Motorway, Damascus, Syria | For all items subject to the EAR (See § 744.11 of the EAR). | Presumption of denial | 83 FR [INSERT FR PAGE NUMBER], 1/26/18.
| * * * * * *
| Rizk Ali, Damascus International Airport, Damascus Airport Motorway, Damascus, Syria. | For all items subject to the EAR (See § 744.11 of the EAR). | Presumption of denial | 83 FR [INSERT FR PAGE NUMBER], 1/26/18.
| * * * * * *
| * * * * * * *
UNITED ARAB EMIRATES | * * * * * *
| Advanced Aerospace Industries, Industrial City of Abu Dhabi, Abu Dhabi, U.A.E. | For all items subject to the EAR (See § 744.11 of the EAR). | Presumption of denial | 83 FR [INSERT FR PAGE NUMBER], 1/26/18.
| * * * * * *
| Ammar Almounajed, a.k.a., the following one alias: —Ammar al-Mounjad. Warehouse No. 1017, Old Agent Bldg., Dubai Air Cargo Village, Dubai, U.A.E. | For all items subject to the EAR (See § 744.11 of the EAR). | Presumption of denial | 83 FR [INSERT FR PAGE NUMBER], 1/26/18.
| * * * * * *
| Deira General Marketing, P.O. Box 26412, Abu Dhabi, U.A.E. | For all items subject to the EAR (See § 744.11 of the EAR). | Presumption of denial | 83 FR [INSERT FR PAGE NUMBER], 1/26/18.
| DGL Clearing and Forwarding LLC, P.O. Box 94353, Abu Dhabi, U.A.E. | For all items subject to the EAR (See § 744.11 of the EAR). | Presumption of denial | 83 FR [INSERT FR PAGE NUMBER], 1/26/18.
| * * * * * *
| Emitech Middle East FZC, P.O. Box 513364, SAIF Zone, Sharjah, U.A.E. | For all items subject to the EAR (See § 744.11 of the EAR). | Presumption of denial | 83 FR [INSERT FR PAGE NUMBER], 1/26/18.
| * * * * * *
| Eurotech DMCC, Office No. 3404, HDS Tower, Sheikh Zayed Road, Dubai, U.A.E.; and P.O. Box 643650, Jumeirah Lakes Towers, Dubai U.A.E. | For all items subject to the EAR. (See § 744.11 of the EAR). | Presumption of denial. | 83 FR [INSERT FR PAGE NUMBER], 1/26/18.
| * * * * * *
| Foremost International FZE, P.O. Box 123833, Q4-163, SAIF Zone, Sharjah, U.A.E. | For all items subject to the EAR (See § 744.11 of the EAR). | Presumption of denial | 83 FR [INSERT FR PAGE NUMBER], 1/26/18.
| * * * * * *
| Jazirah Aviation Club, Al Jazirah, Al Hamra, Ras al Khaimah, U.A.E. | For all items subject to the EAR (See § 744.11 of the EAR). | Presumption of denial | 83 FR [INSERT FR PAGE NUMBER], 1/26/18.
| * * * * * *
| Modest Marketing LLC, P.O. Box 51436, Dubai, U.A.E. | For all items subject to the EAR (See § 744.11 of the EAR). | Presumption of denial | 83 FR [INSERT FR PAGE NUMBER], 1/26/18.
| * * * * * *
| Pearltrainer FZE, P.O. Box 32707, Sharjah, U.A.E. | For all items subject to the EAR (See § 744.11 of the EAR). | Presumption of denial | 83 FR [INSERT FR PAGE NUMBER], 1/26/18.
| * * * * * *
| Sky Gulf Consultancy and Researches LLC, P.O. Box 25298, Abu Dhabi, U.A.E. | For all items subject to the EAR (See § 744.11 of the EAR). | Presumption of denial | 83 FR [INSERT FR PAGE NUMBER], 1/26/18.
| * * * * * *
| Stealth Telecom FZC, P.O. Box 7755, Sharjah, U.A.E. | For all items subject to the EAR (See § 744.11 of the EAR). | Presumption of denial | 83 FR [INSERT FR PAGE NUMBER], 1/26/18.
| * * * * * *
| * * * * * * *

Dated: January 12, 2018.
Richard E. Ashooh,
Assistant Secretary for Export Administration.

[FR Doc. 2018-01332 Filed 1-25-18; 8:45 am]

BILLING CODE 3510-33-P